DEPARTMENT OF HEALTH AND HUMAN SERVICES

Administration for Children and Families

[OMB No. 0970-0406]

Proposed Information Collection Activity; ACF Performance Progress Report, ACF-OGM-SF-PPR-B

AGENCY: Office of Grants Management, Administration for Children and Families, HHS.

ACTION: Request for public comment.

SUMMARY: The Office of Grants Management (OGM), in the Administration for Children and Families (ACF) is requesting a 3-year extension of the form ACF-OGM-SF-PPR-B (OMB #0970-0406, expiration 11/30/2022). There are minor changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: ACF's OGM is proposing the continued collection of program performance data for ACF's discretionary grantees using the existing ACF-OGM-SF-PPR-B (OMB #0970-0406, expiration 11/30/2022) form with minor changes to improve the function of the form. Revisions include collection of the Unique Entity Identifier instead of the Data Universal Numbering System, a rewording of the submission instructions to be more inclusive of all possible report submission methods utilized across ACF, and the addition of a program indicator to collect information on activities recipients conducted during the reporting period to address or advance equity. The form, developed by OGM, was created from the basic template of the OMB-approved reporting format of the Program Performance Report. OGM uses this data to ensure grantees are proceeding in a satisfactory manner in meeting the approved goals and objectives of the project and if funding should be continued for another budget period.

OMB grants policy requires grantees to report on performance. Specific citations are contained in 45 CFR part 75 Uniform Administrative Requirements, Cost Principles, and Audit Requirements for HHS Awards.

Respondents: All ACF discretionary grantees. State governments, Native American Tribal governments, Native American Tribal Organizations, local governments, universities, and nonprofits with or without 501(c)(3) status with the IRS.

Annual Burden Estimates
Instrument | Total number of respondents | Annual number of responses per respondent | Average burden hours per response | Annual burden hours
ACF-OGM-SF-PPR-B | 6,000 | 2 | 1 | 12,000

Estimated Total Annual Burden Hours: 12,000.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR part 75.

Mary B. Jones,
ACF/OPRE Certifying Officer.

[FR Doc. 2022-08520 Filed 4-20-22; 8:45 am]

BILLING CODE 4184-01-P